DEPARTMENT OF THE INTERIOR

National Park Service

[NPS-IMR-BITH-16171; PX.PD109246J.00.1]

Final Environmental Impact Statement for General Management Plan, Big Thicket National Preserve, Texas

AGENCY: National Park Service, Interior.

ACTION: Notice of Availability.

SUMMARY: The National Park Service announces the availability of the Final Environmental Impact Statement for the general management plan for Big Thicket National Preserve. Consistent with NPS laws, regulations, and policies and the purpose of the parkway, the general management plan will guide the management of the park over the next 15-20 years.

DATES: The NPS will sign a Record of Decision no sooner than 30 days following publication of the Environmental Protection Agency of its Notice of Availability of the general management plan in the Federal Register.

ADDRESSES: Electronic copies of the general management plan will be available online at http://parkplanning.nps.gov/BITH. To request a copy, contact Superintendent Doug Neighbor, 6044 FM 420, Kountze, TX 77625, 409-951-6801, and at the following location: Fire Management Office, 860 CR 1040, Woodville, TX 75997.

FOR FURTHER INFORMATION CONTACT: Superintendent Doug Neighbor, Big Thicket National Preserve, 6044 FM 420, Kountze, TX 77625; telephone (409) 951-6801.

SUPPLEMENTARY INFORMATION: We have prepared the final environmental impact statement for the general management plan (FEIS/GMP) and we are publishing this notice pursuant to the National Environmental Policy Act of 1969, 42 U.S.C. 4332(2)(C). The FEIS/GMP responds to, and incorporates, agency and public comments received on the draft EIS/plan, which was available for public review from May 3, 2013, through July 1, 2013. Three public meetings were held from May 14-16, 2013, to gather input on the draft EIS/plan. The meetings were held at the preserve visitor center in Kountze, Texas, and in Woodville and Beaumont, Texas. There were 16 pieces of correspondence received during the public review period. The NPS responses to substantive agency and public comments are provided in “Chapter 5: Consultation and Coordination” of the FEIS/GMP.

The FEIS/GMP evaluates four alternatives for managing use and development of the park. The preferred alternative (alternative 2) would expand opportunities for diverse, low-impact visitor activities by increasing the number of hiking and water-based trails and access points, especially on the newly acquired lands and linking existing trails to trails in the park. Natural resource management activities would focus on minimizing the effects of habitat fragmentation using a number of techniques including fire management, voluntary actions for oil and gas operations in the preserve, and land management agreements with partners. Partnerships are important for implementation of the preferred alternative including protection of natural flow regimes, preventing illegal dumping and other illegal activities as well as noncompatible land uses, and encouraging compatible resource management approaches. Infrastructure development is focused on providing access into the preserve and making existing facilities more sustainable. When approved, the plan will guide the management of the park over the next 15 to 20 years.

The responsible official for this FEIS/GMP is the Regional Director, NPS Intermountain Region, 12795 W Alameda Parkway, Lakewood, Colorado 80228.

Dated: September 11, 2014.
Sue E. Masica,
Regional Director, Intermountain Region, National Park Service.

[FR Doc. 2014-23039 Filed 9-26-14; 8:45 am]

BILLING CODE 4312-CB-P